DEPARTMENT OF THE INTERIOR

Bureau of Reclamation

Information Quality Guidelines Pursuant to Section 515 of the Treasury and General Government Appropriations Act for Fiscal Year 2001

AGENCY: Bureau of Reclamation, Interior.

ACTION: Notice of availability of final Information Quality Guidelines.

SUMMARY: The Office of Management and Budget (OMB) issued guidelines in the Federal Register on February 22, 2002 (67 FR 8452), that directed Federal agencies to issue and implement guidelines to ensure and maximize the quality, objectivity, utility, and integrity of Government information disseminated to the public. In compliance with OMB's guidelines, the Bureau of Reclamation announces the availability of its final Information Quality Guidelines on its Web site.

ADDRESSES: You may access Reclamation's Information Quality Guidelines on its Web site at: http://www.usbr.gov/main/qoi/. Our mailing address is: Department of the Interior, Bureau of Reclamation, Attn: Web Manager (W-1540), Mail Stop 7060, 1849 C Street, NW., Washington, DC 20240.

FOR FURTHER INFORMATION CONTACT: Trudy Harlow; telephone (202) 513-0575; Fax (202) 513-0305; e-mail: tharlow@usbr.gov.

SUPPLEMENTARY INFORMATION: Section 515 of the Treasury and General Government Appropriations Act for Fiscal Year 2001 (Pub. L. 106-554) directed OMB to issue government-wide guidelines that “provide policy and procedural guidance to Federal agencies for ensuring and maximizing the quality, objectivity, utility, and integrity of information (including statistical information) disseminated by Federal agencies.” OMB complied by issuing guidelines that directed each Federal agency to: (a) issue its own guidelines; (b) establish administrative mechanisms allowing affected persons to seek and obtain correction of information that does not comply with OMB's 515 guidelines; and (c) report periodically to the Director of OMB on the number and nature of complaints received by the agency regarding the accuracy of information disseminated by the agency and how such complaints were handled by the agency.

In compliance with OMB's directives, the Department of the Interior (DOI) issued draft Information Quality Guidelines in the Federal Register on May 24, 2002 (65 FR 26642), that instructed each bureau to prepare its own guidelines. In response to DOI's Federal Register Notice, Reclamation developed and issued draft guidelines for comment on its Web site on August 1, 2002. We received comments from one private organization and several individuals. We considered their comments, and where applicable or appropriate, we incorporated them into our final guidelines.

We have now finalized our guidelines and posted them to our Web site. These guidelines are a living document and may be revised periodically to reflect changes in DOI's or Reclamation's policy, or as best practices emerge, about how best to address, ensure, and maximize information quality. Reclamation welcomes comments on these guidelines at any time and will consider those comments in any future revisions.

Dated: October 10, 2002.
John W. Keys III,
Commissioner, Bureau of Reclamation.

[FR Doc. 02-28717 Filed 11-13-02; 8:45 am]

BILLING CODE 4310-MN-P